DEPARTMENT OF JUSTICE

Notice of Lodging of Consent Decree Under the Clean Air Act

Under 28 CFR 50.7, notice is hereby given that on August 19, 2008 a Consent Decree in United States and the State of Louisiana v. Calcasieu Refining Company, Inc., Civil Action No. 2:08-cv-01215-PM-KK was lodged with the United States District Court for the Western District of Louisiana.

In a complaint that was filed simultaneously with the Consent Decree, the United States and the State of Louisiana sought injunctive relief and penalties against Calcasieu Refining Company, Inc. (“Calcasieu”) pursuant to Section 113(b) of the Clean Air Act, 42 U.S.C. 7413(b), for alleged Clean Air Act violations and violations of the corollary provisions in state law at a petroleum refinery in Lake Charles, Louisiana owned by Calcasieu.

Under the settlement, Calcasieu will implement air pollution control technologies to reduce emissions of nitrogen oxides from refinery process units. Calcasieu also will adopt facility-wide enhanced benzene waste monitoring and fugitive emission control programs, as well as a program to minimize flaring events. In addition, Calcasieu will pay a $612,500 civil penalty.

The Department of Justice will receive comments relating to the Consent Decree for a period of thirty (30) days from the date of this publication. Comments should be addressed to the Assistant Attorney General, Environment and Natural Resources Division, P.O. Box 7611, U.S. Department of Justice, Washington, DC 20044-7611, or submitted via e-mail to pubcomment-ees.enrd@usdoj.gov, and should refer to United States and the State of Louisiana v. Calcasieu Refining Company, Inc., D.J. Ref. No. 90-5-2-1-08556.

The Consent Decree may be examined at the Offices of the U.S. Environmental Protection Agency, Region 6, 1445 Ross Avenue, Dallas, Texas. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $26.75 (25 cents per page reproduction cost) payable to the U.S. Treasury.

Maureen M. Katz,
Assistant Section Chief, Environmental Enforcement Section, Environment and Natural Resources Division.

[FR Doc. E8-19704 Filed 8-25-08; 8:45 am]

BILLING CODE 4410-CW-P